DEPARTMENT OF ENERGY

Federal Energy Regulatory Commission

[Docket No. CP01-411-005]

Tractebel Calypso Pipeline, LLC; Notice of Compliance Filing

May 27, 2004.

Take notice that on May 24, 2004, Tractebel Calypso Pipeline, LLC (Tractebel Calypso) tendered for filing as part of its FERC Gas Tariff, First Revised Pro Form Volume No. 1, the following tariff sheets:

First Revised Pro Forma Tariff Sheet Nos. 1 through 521

Tractebel Calypso asserts that the purpose of this filing is to comply with the Commission's May 1, 2003 Preliminary Determination On Non-Environmental Issues, 103 FERC ¶ 61, 106 (Preliminary Determination), in Docket Nos. CP01-409-000, 001, and 002 CP01-410-000, 001, and 002, CP01-411-000, 001, and 002, CP01-444-000, 001, and 002 and March 24, 2004 Order Issuing Certificates, Section 3 Authorization, And Presidential Permit, 106 FERC ¶ 61, 273 (Final Order) in Docket Nos. CP01-409-000, 001, and 002, CP01-410-000, 001, and 002, CP01-411-000, 001, and 002, CP01-444-000, 001, and 002.

Tractebel Calypso asserts that the revisions to the pro forma tariff sheets establish an Interruptible Revenue Crediting Provision, eliminate ACA charges from the pro forma rates, update the pro forma tariff to incorporate currently required NAESB standards, update the pro forma tariff to conform to Order No. 637 and its subsequent clarifications and revisions, relating to scheduling procedures, capacity segmentation, and pipeline penalties, provide for a lost and unaccounted for fuel reimbursement provision. Tractebel also states that the revised pro forma tariff sheets reflect the use of Tractebel Calypso's current name and address.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Protest Date: June 11, 2004.

Magalie R. Salas,
Secretary.

[FR Doc. E4-1276 Filed 6-7-04; 8:45 am]

BILLING CODE 6717-01-P